DEPARTMENT OF COMMERCE

National Oceanic and Atmospheric Administration

United States Integrated Ocean Observing System Advisory Committee

AGENCY: National Ocean Service, National Oceanic and Atmospheric Administration (NOAA), Department of Commerce.

ACTION: Notice of new member solicitation for the United States Integrated Ocean Observing System (U.S. IOOS) Advisory Committee.

SUMMARY: The National Oceanic and Atmospheric Administration (NOAA) is soliciting applications for membership on the United States Integrated Ocean Observing System Advisory Committee (the Committee), which is a Federal advisory committee. Members of the Committee will fulfill the requirements of the Integrated Coastal and Ocean Observation System Act of 2009 (the Act). The Committee provides advice to the Under Secretary of Commerce for Oceans and Atmosphere and to the Interagency Ocean Observation Committee on the planning, integrated design, operation, maintenance, enhancement, and expansion of the United States Integrated Ocean Observing System (U.S. IOOS). U.S. IOOS promotes research to develop, test, and deploy innovations and improvements in coastal and ocean observation technologies and modeling systems, addresses regional and national needs for ocean information, gathers data on key coastal, ocean, and Great Lakes variables and ensures timely and sustained dissemination and availability of these data for societal benefits. U.S. IOOS benefits national safety, the economy, and the environment through support for national defense, marine commerce and forecasting, navigation safety, weather, climate, energy siting and production, economic development, ecosystem-based management of marine and coastal areas, conservation of ocean and coastal resources and public safety.

The Act requires the establishment and administration of this Committee by the Under Secretary of Commerce for Oceans and Atmosphere. NOAA will hereby accept applications for membership on the Committee through September 20, 2017. Applications received after September 20, 2017 may not be considered during this membership application cycle, but may be considered for future membership cycles. The Act states: “Members shall be qualified by education, training, and experience to evaluate scientific and technical information related to the design, operation, maintenance, or use of the [Integrated Ocean Observing] System, or use of data products provided through the System.” NOAA encourages individuals with expertise in oceanographic data, products, and services; coastal management; fisheries management; coastal and marine spatial planning; geodesy; water levels; and other science-related fields to submit applications for Committee membership. To apply for membership on the Committee, applicants should submit a resume as indicated in the ADDRESSES section. NOAA is an equal-opportunity employer.

DATES: Application materials should be sent to the address, email address, or fax number specified and must be received by September 20, 2017 for consideration in this membership cycle.

ADDRESSES: Submit an application for Committee membership, in the form of a resume, to Regina Evans via mail, fax, or email. Mail: 1315 East-West Highway, Station 2605, Silver Spring, MD 20910; Fax: 301-713-3281; Email: regina.evans@noaa.gov.

FOR FURTHER INFORMATION CONTACT: Regina Evans, 1315 East-West Highway, Station 2605, Silver Spring, MD 20910; Telephone: (240) 533-9468, Fax: 301-713-3281; Email: regina.evans@noaa.gov.

SUPPLEMENTARY INFORMATION: This notice responds to the ICOOS Act of 2009 (Pub. L. 111-11, section 12304), which requires the Under Secretary of Commerce for Oceans and Atmosphere to solicit nominations for Committee membership. The Committee will advise the NOAA Administrator or Interagency Ocean Observation Committee on matters related to the responsibilities and authorities set forth in section 12302 of the ICOOS Act of 2009 and other appropriate matters as the Under Secretary refers to the Committee for review and advice.

The United States Integrated Ocean Observing System Advisory Committee will provide advice on:

(a) Administration, operation, management, and maintenance of the System;

(b) Expansion and periodic modernization and upgrade of technology components of the System;

(c) Identification of end-user communities, their needs for information provided by the System, and the System's effectiveness in disseminating information to end-user communities and to the general public; and

(d) Any other purpose identified by the Under Secretary of Commerce for Oceans and Atmosphere or the Interagency Ocean Observation Committee.

The Committee's voting members will be appointed by the Under Secretary of Commerce for Oceans and Atmosphere. Members shall be qualified by education, training, and experience to evaluate scientific and technical information related to the design, operation, maintenance, or use of the System, or the use of data products provided through the System. Members are selected on a standardized basis, in accordance with applicable Department of Commerce guidance. Members will be appointed for three-year terms, renewable once. One Committee member will be designated by the Under Secretary as chairperson. Full-time officers or employees of the United States may not be appointed as a voting member. Members will be appointed as special Government employees (SGEs) for purposes of section 202(a) of title 18, United States Code. Members serve at the discretion of the Under Secretary and are subject to government ethics standards. Members of the Committee will not be compensated for service on the Committee, but they may be allowed travel expenses, including per diem in lieu of subsistence, in accordance with subchapter I of chapter 57 of title 5, United States Code.

The Committee will meet at least once a year, and at other times at the call of the Under Secretary, the Interagency Ocean Observation Committee, or the Committee Chairperson. The Committee has approximately thirteen voting members. This solicitation requests candidate applications for up to thirteen full voting member vacancies. Some voting members whose terms expire August 15, 2018 may be reappointed for a second term if eligible.

If an applicant submitted a resume application for the 2015 Federal Register Notice for IOOS Advisory Committee membership solicitation, and is still interested in being considered for membership on the Committee, the applicant needs to confirm his or her interest by contacting Regina Evans as indicated in the ADDRESSES section. An applicant who is still interested, may either request that his or her 2015 resume application be resubmitted, or he or she may choose to submit a current resume application for the 2018 selection process.

Individuals Selected for Committee Membership

Upon selection and agreement to serve on the United States Integrated Ocean Observing System Advisory Committee, one becomes a Special Government Employee (SGE) of the United States Government. An SGE is an officer or employee of an agency who is retained, designated, appointed, or employed to perform temporary duties, with or without compensation, for not to exceed 130 days during any period of 365 consecutive days, either on a full-time or intermittent basis. After the membership selection process is complete, applicants who are selected to serve on the Committee must complete the following actions before they can be appointed as a Committee member:

(a) Background Check (on-line Background Check process and fingerprinting conducted through NOAA Workforce Management); and

(b) Confidential Financial Disclosure Report: As an SGE, a Confidential Financial Disclosure Report is required to be filed annually to avoid involvement in a real or apparent conflict of interest. This form can be found at the following Web site: http://www.usoge.gov/forms/form_450.aspx.

Dated: June 2, 2017.
Carl Gouldman,
Director, U.S. Integrated Ocean Observing System.

[FR Doc. 2017-13031 Filed 6-21-17; 8:45 am]

BILLING CODE 3510-22-P